DEPARTMENT OF DEFENSE

Department of the Navy

Notice of Availability of Government-Owned Inventions; Available for Licensing

AGENCY: Department of the Navy, DOD.

ACTION: Notice.

SUMMARY: The inventions listed below are assigned to the United States Government as represented by the Secretary of the Navy and are available for licensing by the Department of the Navy. U.S. Patent No. 6,647,297: A Permanent Retinal Implant Device, Navy Case 83,839.//U.S. Patent Application Serial No. 09/840,235: Method for Color Image Fusion, Navy Case No. 82,413.//U.S. Patent Application Serial No. 10/673,352: Microelectronic Cell Electroporation Array, Navy Case No. 84,495.//Navy Case No. 84,655: An Algorithmic Means of Increasing the Spatial Acuity of a Focal Plane Array (FPA) Electro-Optic (E-O) Imaging System by Accumulating Multiple Frames of Imagery into a Single Composite Image.

ADDRESSES: Requests for copies of the inventions cited should be directed to the Naval Research Laboratory, Code 1004, 4555 Overlook Avenue, SW., Washington, DC 20375-5320, and must include the Navy Case number.

FOR FURTHER INFORMATION CONTACT: Jane F. Kuhl, Head, Technology Transfer Office, NRL Code 1004, 4555 Overlook Avenue, SW., Washington, DC 20375-5320, telephone (202) 767-3083. Due to temporary U.S. Postal Service delays, please fax (202) 404-7920, E-Mail: kuhl@utopia.nrl.navy.mil or use courier delivery to expedite response.

(Authority: 35 U.S.C. 207, 37 CFR Part 404.)
Dated: May 17, 2004.
S.A. Hughes,
Lieutenant Commander, Judge Advocate General's Corps, U.S. Navy, Federal Register Liaison Officer.

[FR Doc. 04-11539 Filed 5-20-04; 8:45 am]

BILLING CODE 3810-FF-P